DEPARTMENT OF COMMERCE

International Trade Administration

[A-570-095, C-570-096]

Aluminum Wire and Cable From the People's Republic of China: Initiation of Scope and Circumvention Inquiries of the Antidumping Duty and Countervailing Duty Orders

AGENCY: Enforcement and Compliance, International Trade Administration, Department of Commerce.

SUMMARY: Based on available information, the U.S. Department of Commerce (Commerce) is self-initiating scope inquiries, pursuant to the Tariff Act of 1930, as amended (the Act), to determine whether imports of aluminum wire and cable (AWC), completed in Cambodia, the Republic of Korea (Korea), and the Socialist Republic of Vietnam (Vietnam) (collectively, the third countries) using AWC inputs manufactured in the People's Republic of China (China), are covered by the antidumping duty (AD) and countervailing duty (CVD) orders on AWC from China (collectively, the Orders). In addition, in accordance with our regulations, Commerce is also self-initiating country-wide circumvention inquiries to determine whether imports of AWC, if not covered by the scope of the Orders, are nonetheless circumventing the Orders, and is aligning the scope and circumvention inquiries in accordance with our regulations.

DATES: Applicable October 19, 2023.

FOR FURTHER INFORMATION CONTACT: Mark Hoadley at (202) 482-3148, AD/CVD Operations, Office VII or Shawn Gregor at (202) 482-3226, Office of Policy, Enforcement and Compliance, International Trade Administration, U.S. Department of Commerce, 1401 Constitution Avenue NW, Washington, DC 20230.

SUPPLEMENTARY INFORMATION:

Background

On September 21, 2018, Encore Wire Corporation and Southwire Company LLC filed petitions seeking the imposition of AD and CVD duties on imports of AWC from China.¹ Following Commerce's affirmative determinations of dumping and countervailable subsidies,² and the U.S. International Trade Commission's (ITC) finding of material injury,³ Commerce issued the Orders.⁴

¹ See Aluminum Wire and Cable from the People's Republic of China: Initiation of Less-Than-Fair-Value Investigation, 83 FR 52811 (October 18, 2018); see also Aluminum Wire and Cable from the People's Republic of China: Initiation of Countervailing Duty Investigation, 83 FR 52805 (October 18, 2018).

² See Aluminum Wire and Cable from the People's Republic of China: Final Affirmative Determination of Sales at Less Than Fair Value, 84 FR 58134 (October 30, 2019); see also Aluminum Wire and Cable from the People's Republic of China: Final Affirmative Countervailing Duty Determination, 84 FR 58137 (October 30, 2019).

³ See Aluminum Wire and Cable from China; Determinations, 84 FR 70210 (December 20, 2019); see also Aluminum Wire and Cable from China, Inv Nos. 701-TA-611 and 731-TA-1428 (Final), USITC Pub. 5001 (December 2019).

⁴ See Aluminum Wire and Cable from the People's Republic of China: Antidumping Duty and Countervailing Duty Orders, 84 FR 70496 (December 23, 2019) (Orders).

Scope of the Orders

The merchandise subject to the Orders is AWC from China, which is defined as “an assembly of one or more electrical conductors made from 8000 Series Aluminum Alloys (defined in accordance with ASTM B800), Aluminum Alloy 1350 (defined in accordance with ASTM B230/B230M or B609/B609M0), and/or Aluminum Alloy 6201 (defined in accordance with ASTM B398/B398M), provided that: (1) at least one of the electrical conductors is insulated; (2) each insulated electrical conductor has a voltage rating greater than 80 volts and not exceeding 1000 volts; and (3) at least one electrical conductor is stranded and has a size not less than 16.5 thousand circular mil (kcmil) and not greater than 1000 kcmil.” For a full description of the scope of the Orders, see the Appendix to this notice.

Merchandise Subject to Scope and Circumvention Inquiries

The scope and circumvention inquiries cover AWC assembled and completed in the third countries, using Chinese-origin AWC inputs (e.g., stranded wire and cables or unfinished AWC), that is subsequently exported from the third countries to the United States. Specifically, Commerce placed information on the administrative record, as attachments to its Initiation Memorandum, that AWC inputs produced in China undergo further processing in the third countries before being exported to the United States.⁵

⁵ See Memorandum, “Aluminum Wire and Cable from the People's Republic of China: Initiation of Circumvention and Scope Inquiries on the Antidumping Duty and Countervailing Duty Orders,” dated concurrently with, and hereby adopted by, this notice (Initiation Memorandum). This memorandum is a public document and is on file electronically via Enforcement and Compliance's Antidumping and Countervailing Duty Centralized Electronic Service System (ACCESS). ACCESS is available to registered users at https://access.trade.gov.

Statutory and Regulatory Requirements To Initiate Scope and Circumvention Inquiries

Section 351.225(b) of Commerce's regulations states that if Commerce “determines from available information that an inquiry is warranted to determine whether a product is covered by the scope of an order,” then Commerce “may initiate a scope inquiry and publish a notice of initiation in the Federal Register.”

Additionally, 19 CFR 351.226(b) states that if Commerce “determines from available information that an inquiry is warranted into the question of whether the elements necessary for a circumvention determination under section 781 of the Act exist,” Commerce “may initiate a circumvention inquiry and publish a notice of initiation in the Federal Register.” Section 781(b)(1) of the Act provides that Commerce may find circumvention of an AD or CVD order when merchandise of the same class or kind subject to the order is completed or assembled in a foreign country other than the country to which the order applies. In conducting circumvention inquiries, under section 781(b)(1) of the Act, Commerce considers the following criteria: (A) the merchandise imported into the United States is of the same class or kind as any merchandise produced in a foreign country that is the subject of an antidumping or countervailing duty order or finding; (B) before importation into the United States, such imported merchandise is completed or assembled in another foreign country from merchandise which is subject to the order or merchandise which is produced in the foreign country that is subject to the order; (C) the process of assembly or completion in the foreign country referred to in section (B) is minor or insignificant; (D) the value of the merchandise produced in the foreign country to which the AD or CVD order applies is a significant portion of the total value of the merchandise exported to the United States; and (E) the administering authority determines that action is appropriate to prevent evasion of such order or finding.

In determining whether or not the process of assembly or completion in a third country is minor or insignificant under section 781(b)(1)(C) of the Act, section 781(b)(2) of the Act directs Commerce to consider: (A) the level of investment in the foreign country; (B) the level of research and development in the foreign country; (C) the nature of the production process in the foreign country; (D) the extent of production facilities in the foreign country; and (E) whether or not the value of processing performed in the foreign country represents a small proportion of the value of the merchandise imported into the United States. However, no single factor, by itself, controls Commerce's determination of whether the process of assembly or completion in a third country is minor or insignificant.⁶ Accordingly, it is Commerce's practice to evaluate each of these five factors as they exist in the third country, based on the particular circumvention scenario presented by the facts collected during the inquiry.⁷

⁶ See Statement of Administrative Action Accompanying the Uruguay Round Agreements Act, H.R. Doc. No. 103-316, Vol. I (1994) at 893.

⁷ Id.; see also Uncovered Innerspring Units from the People's Republic of China: Final Affirmative Determination of Circumvention of the Antidumping Duty Order, 83 FR 65626 (December 21, 2018), and accompanying Issues and Decision Memorandum at 4.

In addition, section 781(b)(3) of the Act sets forth additional factors to consider in determining whether to include merchandise assembled or completed in a third country within the scope of an antidumping and/or countervailing duty order. Specifically, Commerce shall take into account such factors as: (A) the pattern of trade, including sourcing patterns; (B) whether the manufacturer or exporter of the merchandise is affiliated with the person who, in the third country, uses the merchandise to complete or assemble the merchandise which is subsequently imported into the United States; and (C) whether imports of the merchandise into the third country have increased after the initiation of the investigation that resulted in the issuance of such order or finding.

Available Information Supports Initiation of Scope and Circumvention Inquiries

Commerce is self-initiating these scope inquiries to determine if AWC inputs produced in China and further processed in the third countries before being exported to the United States meet the scope description.⁸ We are seeking to determine whether in-scope AWC inputs leave China and undergo minor processing in the third countries before being exported to the United States. If the Chinese-origin, in-scope merchandise that undergoes minor processing in the third countries results in merchandise that still corresponds to the description of in-scope merchandise outlined in the Orders, Commerce will find that the merchandise meeting the scope description is covered by the Orders. For those products for which Commerce finds that the merchandise is covered by the Orders, Commerce may rescind the circumvention inquiries, pursuant to 19 CFR 351.226(f)(6).

⁸ See Initiation Memorandum. As explained in the Initiation Memorandum, the available information supports initiating these scope inquiries on a country-wide basis. Commerce has taken this approach in prior scope inquiries, where the facts supported initiation on a country-wide basis. See, e.g., Quartz Surface Products from the People's Republic of China: Initiation of Scope and Circumvention Inquiries of the Antidumping Duty and Countervailing Duty Orders, 87 FR 6844 (February 7, 2022); and Stainless Steel Sheet and Strip from the People's Republic of China: Initiation of Anti-Circumvention and Scope Inquiries on the Antidumping and Countervailing Duty Orders, 85 FR 29401, 29402 (May 15, 2020). Pursuant to 19 CFR 351.225(m), even if Commerce initiates a scope inquiry on a country-wide basis, if it subsequently finds that the merchandise is subject to the scope of the order, it is not required to apply its ultimate determination on a country-wide basis but has the discretion to apply the determination as it deems appropriate.

Based on available information, we also determine that initiation of these circumvention inquiries is warranted to determine whether certain imports of AWC, completed in the third countries using AWC inputs manufactured in China, are circumventing the Orders.⁹ Commerce has made this determination in accordance with its analysis of the factors set forth in section 781(b) of the Act and 19 CFR 351.226(i).¹⁰

⁹ See Initiation Memorandum. As explained in the Initiation Memorandum, the available information supports initiating these circumvention inquiries on a country-wide basis. Commerce has taken this approach in prior circumvention inquiries, where the facts supported initiation on a country-wide basis. See, e.g., Quartz Surface Products from the People's Republic of China: Initiation of Scope and Circumvention Inquiries of the Antidumping Duty and Countervailing Duty Orders, 87 FR 6844 (February 7, 2022); see also Oil Country Tubular Goods from the People's Republic of China: Initiation of Anti-Circumvention Inquiries on the Antidumping and Countervailing Duty Orders, 85 FR 71877, 71878-79 (November 12, 2020); Stainless Steel Sheet and Strip from the People's Republic of China: Initiation of Anti-Circumvention and Scope Inquiries on the Antidumping and Countervailing Duty Orders, 85 FR 29401, 29402 (May 15, 2020); Corrosion-Resistant Steel Products from the People's Republic of China: Initiation of Anti-Circumvention Inquiries on the Antidumping Duty and Countervailing Duty Orders, 84 FR 43585 (August 21, 2019); Steel Butt-Weld Pipe Fittings from the People's Republic of China: Initiation of Anti-Circumvention Inquiry on the Antidumping Duty Order, 82 FR 40556, 40560 (August 25, 2017) (stating at initiation that Commerce would evaluate the extent to which a country-wide finding applicable to all exports might be warranted); and Certain Corrosion-Resistant Steel Products from the People's Republic of China: Initiation of Anti-Circumvention Inquiries on the Antidumping Duty and Countervailing Duty Orders, 81 FR 79454, 79458 (November 14, 2016) (stating at initiation that Commerce would evaluate the extent to which a country-wide finding applicable to all exports might be warranted). Pursuant to 19 CFR 351.226(m), even if Commerce initiates a circumvention inquiry on a country-wide basis, if it subsequently finds circumvention to exist, it is not required to apply its ultimate determination on a country-wide basis but has the discretion to apply that circumvention determination as it deems appropriate.

¹⁰ See Initiation Memorandum.

Commerce has determined that it is appropriate to first determine whether the merchandise is subject to the scope of the Orders through scope inquiries, before considering whether the merchandise is circumventing the Orders. Accordingly, Commerce will initially conduct its scope inquiries of the merchandise at issue, and then once it has made a determination as to the scope coverage status of the merchandise, it will determine whether to continue with the circumvention inquiries. Commerce may apply its scope determinations, in accordance with 19 CFR 351.225(m)(1), on a producer-specific, exporter-specific, or importer-specific basis, or on a country-wide basis, regardless of the producer, exporter, or importer of the products being exported from the third countries to the United States.

If Commerce determines that AWC inputs produced in China and further processed in the third countries before being exported to the United States are not subject to the scope of the Orders, in whole or in part, Commerce intends to continue with the circumvention inquiries of that merchandise. If, as a result of the circumvention inquiries, Commerce determines that the products subject to the inquiries are circumventing the Orders, then in accordance with 19 CFR 351.226(m)(1), Commerce may apply its determination on a producer-specific, exporter-specific, or import-specific basis, or on a country-wide basis, regardless of the producer, exporter, or importer of the products being exported from the third countries to the United States.

Pursuant to 19 CFR 351.225(f)(7) and 226(f)(7), Commerce may “alter or extend” time limits under the scope and circumvention inquiries as necessary to make certain all parties to each or both segments of the proceedings are able to file comments and factual information as necessary.

Consistent with the approach taken in prior scope and circumvention inquiries that Commerce initiated on a country-wide basis, we intend to solicit information from certain companies in the third countries concerning their production of AWC and their shipments thereof to the United States. A company's failure to completely respond to Commerce's requests for information may result in the application of partial or total facts available, pursuant to section 776(a) of the Act, which may include adverse inferences, pursuant to section 776(b) of the Act.

Respondent Selection

Commerce intends to base respondent selection on responses to quantity and value questionnaires. Commerce intends to identify the companies to which it will issue the quantity and value questionnaire, in part, based on U.S. Customs and Border Protection (CBP) data. Parties to which Commerce does not issue the quantity and value questionnaire may also respond to the quantity and value questionnaire, which will be available in ACCESS, by the applicable deadline. Commerce intends to place the CBP data on the record within five days of publication of the initiation notice. Comments regarding the CBP data and respondent selection should be submitted within seven days after placement of the CBP data on the record of the relevant inquiry.

Suspension of Liquidation

(1) Scope Inquiries

Pursuant to 19 CFR 351.225(l)(1), when Commerce self-initiates a scope inquiry under 19 CFR 351.225(b), Commerce will notify CBP of the initiation and direct CBP to continue the suspension of liquidation of entries of products subject to the scope inquiry that were already subject to the suspension of liquidation, and to apply the cash deposit rate that would be applicable if the product were determined to be covered by the scope of the order. Accordingly, Commerce will notify CBP of the initiation of the scope inquiries and direct CBP to continue to suspend (unliquidated) entries of the products subject to the scope inquiries that were already covered by the suspension of liquidation. In addition, Commerce will direct CBP to apply the cash deposit rate that would be applicable if the products were determined to be covered by the scope of the Orders.

Should Commerce issue preliminary or final scope rulings, Commerce will follow the suspension of liquidation rules under 19 CFR 351.225(l)(2)-(4). In the event that Commerce issues preliminary or final scope rulings that the products are covered by the scope of the Orders, Commerce will instruct CBP to continue the suspension of liquidation of previously suspended entries and to apply the applicable cash deposit rate. Commerce will also instruct CBP to begin the suspension of liquidation and application of cash deposits for any unliquidated entries not yet suspended, entered, or withdrawn from warehouse, for consumption, on or after the date of initiation of the scope inquiries pursuant to paragraphs (l)(2)(ii) and (l)(3)(ii). In addition, pursuant to paragraphs (l)(2)(iii)(A) and (l)(3)(iii)(A), Commerce normally will instruct CBP to begin the suspension of liquidation and application of cash deposits for any unliquidated entries not yet suspended, entered, or withdrawn from warehouse, for consumption, prior to the date of initiation of the scope inquiry, but not for such entries prior to November 4, 2021, the effective date of these provisions in the Final Rule.¹¹ These rules will not affect CBP's authority to take any additional action with respect to the suspension of liquidation or related measures for these entries, as stated in 19 CFR 351.225(l)(5).

¹¹ See Regulations to Improve Administration and Enforcement of Antidumping and Countervailing Duty Laws, 86 FR 52300, 52327 (September 20, 2021) (Final Rule).

(2) Circumvention Inquiries

Pursuant to 19 CFR 351.226(l)(1), when Commerce self-initiates a circumvention inquiry under 19 CFR 351.226(b), Commerce will notify CBP of the initiation and direct CBP to continue the suspension of liquidation of entries of products covered by the circumvention inquiry that were already covered by the suspension of liquidation, and to apply the cash deposit rate that would be applicable if the product were determined to be circumventing the order. Accordingly, Commerce will notify CBP of the initiation of the circumvention inquiries and direct CBP to continue to suspend (unliquidated) entries of the products covered by the circumvention inquiries that were already covered by the suspension of liquidation. In addition, Commerce will direct CBP to apply the cash deposit rate that would be applicable if the products were determined to be circumventing the Orders.

Should Commerce issue preliminary or final circumvention determinations, Commerce will follow the suspension of liquidation rules under 19 CFR 351.226(l)(2)-(4). In the event that Commerce issues affirmative preliminary or final circumvention determinations that the products are circumventing the Orders, Commerce will instruct CBP to continue the suspension of liquidation of previously suspended entries and to apply the applicable cash deposit rate. Commerce will also instruct CBP to begin the suspension of liquidation and application of cash deposits for any unliquidated entries not yet suspended, entered, or withdrawn from warehouse, for consumption, on or after the date of publication of the notice of initiation of the circumvention inquiries pursuant to paragraphs (l)(2)(ii) and (l)(3)(ii). In addition, pursuant to paragraphs (l)(2)(iii)(A) and (l)(3)(iii)(A), Commerce may instruct CBP to begin the suspension of liquidation and application of cash deposits for any unliquidated entries not yet suspended, entered, or withdrawn from warehouse, for consumption, prior to the date of initiation of the circumvention inquiry, but not for such entries prior to November 4, 2021, the effective date of these provisions in the Final Rule.¹² These rules will not affect CBP's authority to take any additional action with respect to the suspension of liquidation or related measures for these entries, as stated in 19 CFR 351.226(l)(5).

¹² Id., 86 FR at 52345.

Notification to Interested Parties

In accordance with 19 CFR 351.225(b) and 226(b), and section 781(b) of the Act, Commerce determines that available information supports initiating both scope and circumvention inquiries to determine whether certain imports of AWC, completed in and exported from the third countries using AWC inputs manufactured in China, are subject to or circumventing the Orders. Accordingly, Commerce is notifying all interested parties of the initiation of scope and circumvention inquiries. In addition, we have included a description of the products that are the subject of these inquiries, and an explanation of the reasons for Commerce's decision to initiate these inquiries as provided above and in the accompanying Initiation Memo. Pursuant to 19 CFR 351.225(e)(3) and 226(e)(3), due to the interrelated nature of the scope and circumvention inquiries, Commerce is aligning the deadlines for the scope inquiries with the circumvention inquiries and will conduct the scope inquiries first for the reasons explained above.

Pursuant to 19 CFR 351.225(f)(1), interested parties have until 30 days after publication of this notice in the Federal Register to submit one set of comments and factual information addressing the self-initiation of the scope inquiries.

Under 19 CFR 351.225(l)(2)(iii)(B) and (l)(3)(iii)(B), interested parties may timely request that Commerce adopt an alternative date to begin the suspension of liquidation and application of cash deposits under paragraphs (l)(2)(ii)(A) and (l)(3)(iii)(A). A request for Commerce to adopt an alternative date must be based on a specific argument supported by evidence establishing the appropriateness of that alternative date.¹³ If parties wish to make such a request, that request must be included with the set of comments and factual information submitted to Commerce pursuant to 19 CFR 351.225(f)(1).

¹³ Id., 86 FR at 52326-29, for further information.

Within 14 days of the filing of such comments, any interested party is permitted one opportunity to submit comments and factual information to rebut, clarify, or correct factual information submitted by the other interested parties (including rebuttal in response to any requests made under 19 CFR 351.225(l)(2)(iii)(B) and (l)(3)(iii)(B)). At this time, we are not soliciting or accepting comments on the self-initiation of the circumvention inquiries. Should Commerce determine to proceed with the circumvention inquiries after finalizing its scope determinations, Commerce will notify interested parties on the segment-specific service list of an opportunity to comment.

In accordance with section 19 CFR 351.225(e), unless the scope inquiries are rescinded, in whole or in part, Commerce intends to issue its final scope rulings within 120 days after the date on which the scope inquiries were initiated. Furthermore, in accordance with section 781(f) of the Act and 19 CFR 351.226(e)(2), unless the circumvention inquiries are rescinded, in whole or in part, Commerce intends to issue its final circumvention determinations within 300 days from the date of publication of the notice of initiation of a circumvention inquiries in the Federal Register.

Dated: October 11, 2023.
Lisa W. Wang,
Assistant Secretary for Enforcement and Compliance.

Appendix

Scope of the Orders

The scope of these Orders covers aluminum wire and cable, which is defined as an assembly of one or more electrical conductors made from 8000 Series Aluminum Alloys (defined in accordance with ASTM B800), Aluminum Alloy 1350 (defined in accordance with ASTM B230/B230M or B609/B609M), and/or Aluminum Alloy 6201 (defined in accordance with ASTM B398/B398M), provided that: (1) At least one of the electrical conductors is insulated; (2) each insulated electrical conductor has a voltage rating greater than 80 volts and not exceeding 1000 volts; and (3) at least one electrical conductor is stranded and has a size not less than 16.5 thousand circular mil (kcmil) and not greater than 1000 kcmil. The assembly may: (1) Include a grounding or neutral conductor; (2) be clad with aluminum, steel, or other base metal; or (3) include a steel support center wire, one or more connectors, a tape shield, a jacket or other covering, and/or filler materials.

Most aluminum wire and cable products conform to National Electrical Code (NEC) types THHN, THWN, THWN-2, XHHW-2, USE, USE-2, RHH, RHW, or RHW-2, and also conform to Underwriters Laboratories (UL) standards UL-44, UL-83, UL-758, UL- 854, UL-1063, UL-1277, UL-1569, UL-1581, or UL-4703, but such conformity is not required for the merchandise to be included within the scope.

The scope of the Orders specifically excludes aluminum wire and cable products in lengths less than six feet, whether or not included in equipment already assembled at the time of importation.

The merchandise covered by the Orders is currently classifiable under subheading 8544.49.9000 of the Harmonized Tariff Schedule of the United States (HTSUS). Products subject to the scope may also enter under HTSUS subheading 8544.42.9090. The HTSUS subheadings are provided for convenience and customs purposes. The written description of the scope of the Orders is dispositive.

[FR Doc. 2023-23027 Filed 10-18-23; 8:45 am]

BILLING CODE 3510-DS-P